DEPARTMENT OF EDUCATION

Applications for New Awards; Personnel Development To Improve Services and Results for Children With Disabilities—Personnel Preparation in Special Education, Early Intervention, and Related Services

Correction

In notice document 14-02710 beginning on page 7429 in the issue of Friday, February 7, 2014 make the following corrections:

On page 7434, in the table, under the heading “Contact person”:

1. In the first entry, “maryan.mcdermott@ed.gov” should read “maryann.mcdermott@ed.gov”.

2. In the second entry, “maryan.mcdermott@ed.gov” should read “maryann.mcdermott@ed.gov”.

3. In the third entry, “Maryann McDermott, 202-245-7439, maryan.mcdermott@ed.gov, PCP, Room 4062” should read “Sarah Allen, 202-245-7875, sarah.allen@ed.gov, PCP, Room 4105”.

4. In the fourth entry, “dawn.elis@ed.gov.” should read “dawn.ellis@ed.gov”.

[FR Doc. C1-2014-02710 Filed 2-12-14; 8:45 am]

BILLING CODE 1505-01-D